ENVIRONMENTAL PROTECTION AGENCY

[ER-FRL-9023-6]

Environmental Impact Statements; Notice of Availability

Responsible Agency: Office of Federal Activities, General Information (202) 564-7146 or http://www2.epa.gov/nepa.

Weekly receipt of Environmental Impact Statements (EISs).

Filed 10/12/2015 Through 10/16/2015.

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20150291, Draft, NMFS, FL, Regulatory Amendment 16 to the Fishery Management Plan for the Snapper-Grouper Fishery of the South Atlantic Region, Comment Period Ends: 12/07/2015, Contact: Rick DeVictor 727-551-5720.

EIS No. 20150292, Final, HUD, CA, Potrero HOPE SF Master Plan, Review Period Ends: 11/23/2015, Contact: Eugene Flannery 415-701-5598.

EIS No. 20150293, Final, USFS, AK, Saddle Lakes Timber Sale, Review Period Ends: 12/07/2015, Contact: Daryl Bingham 907-228-4114.

EIS No. 20150294, Draft, FHWA, NC, I-26 Asheville Connector, Comment Period Ends: 12/07/2015, Contact: John F. Sullivan, III 919-856-4346 ext. 122.

Dated: October 20, 2015.
Karin Leff
Acting Director, NEPA Compliance Division, Office of Federal Activities.

[FR Doc. 2015-27054 Filed 10-22-15; 8:45 am]

BILLING CODE 6560-50-P